DEPARTMENT OF HEALTH AND HUMAN SERVICES

Centers for Disease Control and Prevention

Healthcare Infection Control Practices Advisory Committee (HICPAC): Meeting

In accordance with section 10(a)(2) of the Federal Advisory Committee Act (Pub. L. 92-463), the Centers for Disease Control and Prevention (CDC) announces the following meeting.

Name: Healthcare Infection Control Practices Advisory Committee (Formerly Hospital Infection Control Practices Advisory Committee).

Times and Dates: 8:30 a.m.-5 p.m., May 22, 2000. 8:30 a.m.-4 p.m., May 23, 2000.

Place: Atlanta Marriott Century Center, 2000 Century Boulevard, NE, Atlanta, Georgia 30345.

Status: Open to the public, limited only by the space available.

Purpose: The Committee is charged with providing advice and guidance to the Secretary, the Assistant Secretary for Health, the Director, CDC, and the Director, National Center for Infectious Diseases (NCID), regarding (1) the practice of hospital infection control; (2) strategies for surveillance, prevention, and control of infections (e.g., nosocomial infections), antimicrobial resistance, and related events in settings where healthcare is provided; and (3) periodic updating guidelines and other policy statements regarding prevention of healthcare associated infections and healthcare-related conditions.

Matters to be Discussed: Agenda items will include a review proposed revisions to the Guideline for Prevention of Intravascular Device-related Infections, the Guideline for Hand Hygiene, and the Recommendations for Preventing the Spread of Vancomycin Resistance in Hospitals; a discussion of strategies for evaluation of HICPAC guidelines; a review of the fourth draft of the Guideline for Environmental Controls in Healthcare Settings, 2001, and the first draft of the Guideline for Prevention of Nosocomial Pneumonia, 2001; and a review of CDC activities of interest to the Committee, including the Institute of Medicine Report on Medical Errors.

Agenda items are subject to change as priorities dictate.

Contact Person for More Information: Michele L. Pearson, M.D., Medical Epidemiologist, Investigation and Prevention Branch, Hospital Infections Program, NCID, CDC, 1600 Clifton Road, NE, M/S E-69, Atlanta, Georgia 30333, telephone 404/639-6413.

The Director, Management Analysis and Services office has been delegated the authority to sign Federal Register notices pertaining to announcements of meetings and other committee management activities, for both the Centers for Disease Control and Prevention and the Agency for Toxic Substances and Disease Registry.

Dated: April 18, 2000.
John Burckhardt,
Acting Director, Management Analysis and Services Office, Centers for Disease Control and Prevention (CDC).

[FR Doc. 00-10238 Filed 4-24-00; 8:45 am]

BILLING CODE 4163-18-P